DEPARTMENT OF ENERGY

Federal Energy Regulatory Commission

[Docket No. RM08-2-000]

Pipeline Posting Requirements Under Section 23 of the Natural Gas Act; Notice of Technical Conference

February 24, 2009.

Take notice that on March 18, 2008, a technical conference will be convened to consider certain issues related to Order No. 720.¹ The technical conference will be held in the Commission Meeting Room (Room 2C) at the headquarters of the Federal Energy Regulatory Commission, 888 First Street, NE., Washington, DC, from 9 a.m. to 1 p.m. (EDT).

¹ Pipeline Posting Requirements under Section 23 of the Natural Gas Act, Order No. 720, FERC Stats. & Regs. ¶ 31,281 (2008).

On November 20, 2008, the Commission issued Order No. 720, Pipeline Posting Requirements under Section 23 of the Natural Gas Act. The Final Rule, among other things, requires major non-interstate pipelines to post scheduled flow information and to post information for each receipt and delivery point with a design capacity greater than 15,000 MMBtu per day. The topics for discussion are: (1) The definition of major non-interstate pipelines; (2) what constitutes “scheduling” for a receipt or delivery point; and (3) how the 15,000 MMBtu per day design capacity threshold should be applied. The technical conference will be organized around these three topics. An agenda for the conference will be issued in a later notice.

This technical conference will be transcribed. Transcripts will be available immediately for a fee from Ace Reporting Company (202-347-3700 or 1-800-336-6646). For additional information, please contact Saida Shaalan of FERC's Office of Enforcement at (202) 502-8278 or by e-mail at Saida.Shaalan@ferc.gov.

Commission conferences and meetings are accessible under section 508 of the Rehabilitation Act of 1973. For accessibility accommodations please send an e-mail to accessibility@ferc.gov or call toll free (866) 208-3372 (voice) or 202-502-8659 (TTY), or send a fax to 202-208-2106 with the required accommodations.

Kimberly D. Bose,
Secretary.

[FR Doc. E9-4418 Filed 3-2-09; 8:45 am]

BILLING CODE 6717-01-P